DEPARTMENT OF COMMERCE

National Oceanic and Atmospheric Administration

[RTID 0648-XE824]

Marine Mammals; File No. 27552

AGENCY: National Marine Fisheries Service (NMFS), National Oceanic and Atmospheric Administration (NOAA), Commerce.

ACTION: Notice; issuance of permit.

SUMMARY: Notice is hereby given that a permit has been issued to NMFS' Pacific Islands Fisheries Science Center, 1845 Wasp Boulevard, Building 176, Honolulu, HI 96818 (Responsible Party: Michelle Barbieri, D.V.M.) to conduct research and enhancement activities on Hawaiian monk seals (Neomonachus schauinslandi).

ADDRESSES: The permit and related documents are available for review upon written request via email to NMFS.Pr1Comments@noaa.gov.

FOR FURTHER INFORMATION CONTACT: Sara Young or Shasta McClenahan, Ph.D., (301) 427-8401.

SUPPLEMENTARY INFORMATION: On November 8, 2024, notice was published in the Federal Register (89 FR 88736) that a request for a permit to conduct research and enhancement activities had been submitted by the above-named applicant. The requested permit was issued on April 9, 2025, under the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

The permit authorizes the applicant to carry out research and enhancement activities to recover the endangered Hawaiian monk seal along beaches and nearshore waters throughout the Hawaiian Archipelago (Northwestern Hawaiian Islands and main Hawaiian Islands) and Johnston Atoll. Research will identify impediments to recovery, inform the design of conservation interventions, and evaluate those measures. Research activities include visual and photographic monitoring, capture, tagging, pelage marking, health screening, foraging studies, deworming, necropsies, tissue sampling, behavioral modification, vocalization studies, and vaccination. Enhancement activities are designed to improve survival, reproductive success, and overall species' status. Enhancement activities include deworming, capture, translocation, hazing and removal of aggressive adult male seals, disentangling, dehooking, medical treatment, behavioral modification, vaccination, and supplemental feeding of post-release rehabilitated seals. Unintentional mortalities during research and enhancement activities are requested. Unintentional disturbance of spinner dolphins (Stenella longirostris) and bottlenose dolphins (Tursiops truncatus) during research and enhancement activities is also requested. See the application for complete numbers of animals requested by species, age-class, and procedure. Pinniped parts may be collected, received, exported, and imported for analysis. The permit is valid through December 31, 2029.

In compliance with the National Environmental Policy Act of 1969 (42 U.S.C. 4321 et seq.), a final determination has been made that the activity proposed is categorically excluded from the requirement to prepare an environmental assessment or environmental impact statement.

Dated: April 11, 2025.
Julia M. Harrison,
Chief, Permits and Conservation Division, Office of Protected Resources, National Marine Fisheries Service.

[FR Doc. 2025-06579 Filed 4-16-25; 8:45 am]

BILLING CODE 3510-22-P